ENVIRONMENTAL PROTECTION AGENCY

40 CFR Part 52

[EPA-R09-OAR-2009-0470; FRL-8978-2]

Approval and Promulgation of Air Quality Implementation Plans; California; Motor Vehicle Inspection and Maintenance Program; Proposed Rule—Notice of Data Availability and Request for Comment

AGENCY: Environmental Protection Agency (EPA).

ACTION: Notice of data availability (NODA) and request for comment.

SUMMARY: The EPA is providing notice that it has placed in the docket for the proposed rulemaking concerning California's June 5, 2009 Motor Vehicle Inspection and Maintenance (I/M) program submittal additional modeling data relevant to the proposed rulemaking, published on August 19, 2009. The August 19, 2009 notice established a 30-day comment period on EPA's proposal, which ended on September 18, 2009. EPA is reopening the comment period to end on December 2, 2009. The purpose of this notice is to provide the public an opportunity to review and comment on the additional modeling data, which were described in the proposed rulemaking notice and are further described below.

Readers should note that only comments about the new modeling data discussed in this document and related issues will be considered during the comment period. Issues related to the August 19, 2009 proposed rule that are not directly affected by the data referenced in this Notice of Data Availability are not open for further comment.

DATES: EPA will accept comments on the modeling data and related issues until December 2, 2009.

ADDRESSES: Submit your comments, identified by Docket ID No. EPA-R09-OAR-2009-0470, by one of the following methods:

1. Federal eRulemaking Portal: http://www.regulations.gov. Follow the on-line instructions.

2. E-mail: buss.jeffrey@epa.gov.

3. Mail or deliver: Jeffrey Buss (Air-2), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. The http://www.regulations.gov portal is an “anonymous access” system, which means EPA will not know your identity or contact information unless you provide it in the body of your comment. If you send e-mail directly to EPA without going through http://www.regulations.gov, your e-mail address will be automatically captured and included as part of the comment that is placed in the public docket and made available on the Internet. If you submit an electronic comment, EPA recommends that you include your name and other contact information in the body of your comment and with any disc or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at EPA Region IX, 75 Hawthorne Street, San Francisco, California. To inspect the hard copy materials, please schedule an appointment during normal business hours with the contact listed in the FOR FURTHER INFORMATION CONTACT section.

FOR FURTHER INFORMATION CONTACT: Jeffrey Buss, EPA Region IX, (415) 947-4152, buss.jeffrey@epa.gov.

SUPPLEMENTARY INFORMATION: Throughout this document, the terms “we”, “us”, and “our” refer to EPA.

On August 19, 2009 (74 FR 41818), EPA proposed to approve state implementation plan (SIP) revisions submitted by the California Air Resources Board (CARB) on June 5, 2009 relating to the State's basic and enhanced vehicle I/M program (“2009 I/M Revision”) contingent upon California's submittal of revisions to the enhanced program performance standard evaluations to address a different attainment year for the Western Mojave Desert 8-hour ozone nonattainment area and to address California's base-year program performance.

As explained in the August 19, 2009 proposal, these revisions to California's enhanced program performance standard evaluation were necessary for two reasons. First, the submitted performance modeling evaluation for the Western Mojave Desert 8-hour ozone nonattainment area was based on the State's choice of 2020 as the horizon year, based on the attainment deadline for 8-hour ozone nonattainment areas classified as “severe-17.” ¹ Because EPA interprets CAA section 181(b)(3) as disallowing state requests to reclassify ozone nonattainment areas to “severe-17,” we noted that the State must submit a revised modeling evaluation based on a more appropriate horizon year for this area. 74 FR 41818-41823.

¹ By letter dated February 14, 2008, CARB requested reclassification of the Western Mojave Desert 8-hour ozone nonattainment area to “severe-17.” Western Mojave Desert is currently classified as a “moderate” nonattainment area for the 8-hour ozone standard. 40 CFR 81.305.

Second, CARB did not provide base year modeling evaluations for the six areas in the State that are subject to the enhanced I/M requirements in 40 CFR part 51, subpart S. The six areas are the South Coast Air Basin, San Joaquin Valley, Western Mojave Desert, Sacramento Metro, Coachella Valley, and Ventura County. We noted that a base year modeling run is required to allow for a more definitive conclusion that the California enhanced I/M program obtained the same or lower emission levels as the EPA model program by January 1, 2002, and that the program will maintain this level of emission reduction (or better) through the applicable 8-hour ozone attainment deadlines, as required by 40 CFR 51.351(f). Based on our preliminary modeling analyses and evaluation of the data provided in CARB's submittal, however, we noted that we expect these revised modeling evaluations will satisfy the regulatory requirements. 74 FR 41818-41823. In our proposed rule, we indicated that we would notify the public of any additional information that is provided to address these issues. Publication of this NODA is intended to serve this purpose.

On October 28, 2009, CARB submitted the revised enhanced I/M performance modeling analyses described above. We placed the analyses in the docket on October 29, 2009. Specifically, CARB submitted (1) revised enhanced program performance standard evaluations for the Western Mojave Desert area based on a horizon year of 2018, and (2) 2002 base year performance modeling evaluations for the six areas in the State that are subject to the enhanced I/M requirements in 40 CFR part 51, subpart S (the South Coast Air Basin, San Joaquin Valley, Western Mojave Desert, Sacramento Metro, Coachella Valley, and Ventura County). We find that selection of year 2018 by California as the “year before the attainment year” for Western Mojave Desert for enhanced performance modeling purposes is acceptable on the presumption that CARB will amend its voluntary reclassification request from “severe-17” to “severe-15.” We interpret section 181(b)(3) to allow for voluntary reclassification by a state to the latter, but not the former.

We have also reviewed the submitted modeling data and find that the inputs to the MOBILE6.2 model accurately reflect the California I/M program. Based on the modeling results for Western Mojave Desert submitted on October 28, 2009, together with the performance standard modeling results contained in the 2009 I/M Revision, we believe that California has now demonstrated that the California I/M program would achieve greater percent emissions reductions (relative to the no I/M scenario) for VOC and NOX in each of the six areas in the year before the attainment year than would the EPA model enhanced I/M program in 2002.

Moreover, the modeling results for the California I/M program in 2002 show that the California program achieved greater percent emissions reductions (relative to the no I/M scenario) for VOC and NOX in each of the six areas than the EPA model enhanced I/M program in 2002. Thus, in view of the results of both the base year and horizon year modeling results, we believe that the analyses submitted by CARB on October 28, 2009 support the conclusion that the California I/M program will maintain a greater percent emissions reduction in all six subject areas (relative to the no I/M scenario) than would the Federal I/M program in the base year, thereby meeting the enhanced I/M performance standard in 40 CFR 51.351(f) and supporting full approval of the 2009 I/M Revision. EPA is today providing notice and opportunity to comment on these revised modeling evaluations, which are available in the docket for the proposed action.

Dated: October 30, 2009.
Enrique Manzanilla,
Acting Regional Administrator, Region IX.

[FR Doc. E9-27669 Filed 11-17-09; 8:45 am]

BILLING CODE 6560-50-P